DEPARTMENT OF ENERGY

Federal Energy Regulatory Commission

[Docket No. CP07-25-000]

Questar Pipeline Company; Notice of Availability of the Environmental Assessment for the Proposed Southern System Expansion Project II

March 2, 2007.

The staff of the Federal Energy Regulatory Commission (FERC or Commission) has prepared an environmental assessment (EA) on the natural gas pipeline facilities proposed by Questar Pipeline Company (Questar) in the above-referenced docket. This EA has been prepared in cooperation with the U.S. Department of Interior's, Bureau of Land Management, U.S. Geological Survey, and U.S. Fish and Wildlife Service (collectively, “cooperating agencies”).

The EA was prepared to satisfy the requirements of the National Environmental Policy Act. The staff and cooperating agencies conclude that approval of the proposed project, with appropriate mitigating measures, would not constitute a major federal action significantly affecting the quality of the human environment.

The EA assesses the potential environmental effects of the construction and operation of the proposed Southern System Expansion Project II including:

Main Line 104 Extension Pipeline—Consisting of about 53.9 miles of new 24-inch-diameter pipeline loop and ancillary facilities in Uintah, Duchesne and Carbon Counties, Utah. The new pipeline would loop Questar's existing Main Line 40 northeast of Price, Utah and include a pig launcher, four new mainline block valves, a 200-barrel slug catcher, cathodic protection systems, and associated crossover piping, taps, and valves.

Main Line 104 Loop Pipeline—Consisting of about 4.7 miles of new 24-inch-diameter pipeline loop and ancillary facilities. The ML 104 Loop pipeline would parallel Questar's existing ML 104 between its existing Fausett Junction and Oak Spring Compressor Station facilities.

Blind Canyon Compressor Station Upgrades—Consisting of upgrades to one of two existing compressor units. Additional proposed facility upgrades would include the installation of about 1,200 feet of new station suction and discharge piping, one pig launcher, one pig receiver, one block valve, one spillover valve, one ultrasonic gas meter, and one filter separator.

Oak Spring Compressor Station Upgrades—Consisting of restaging two of the three existing compressor units. Additional proposed facility upgrades would include installation of one pig receiver, one block valve, and one valve associated with the pig receiver.

Price Yard Facilities—Consisting of approximately 200 feet of inlet and outlet piping, a 200-barrel slug catcher, a filter separator, and associated valves that would be installed within the boundary of the existing facility site.

The purpose of the Southern System Expansion Project II is to deliver up to approximately 175,000 dekatherms per day of natural gas on a firm basis from various receipt points on Questar's southern transmission system to a delivery point at an existing interconnect facility with the Kern River Gas Transmission Company pipeline near Goshen, Utah.

The EA has been placed in the public files of the FERC. A limited number of copies of the EA are available for distribution and public inspection at: Federal Energy Regulatory Commission, Public Reference and Files Maintenance Branch, 888 First Street, NE., Room 2A, Washington, DC 20426, (202) 502-8371.

Copies of the EA have been mailed to federal, state and local agencies, public interest groups, interested individuals, affected landowners, newspapers, and parties to this proceeding.

Any person wishing to comment on the EA may do so. To ensure consideration prior to a Commission decision on the proposal, it is important that we receive your comments before the date specified below.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

If you are filing written comments, please carefully follow these instructions to ensure that your comments are received in time and properly recorded:

• Send an original and two copies of your comments to: Secretary, Federal Energy Regulatory Commission, 888 First St., NE., Room 1A, Washington, DC 20426.

• Label one copy of the comments for the attention of the Gas Branch 3, PJ 11.3.

• Reference Docket No. CP07-25-000; and

• Mail your comments so that they will be received in Washington, DC on or before April 2, 2007.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Magalie R. Salas,
Secretary.

[FR Doc. E7-4121 Filed 3-7-07; 8:45 am]

BILLING CODE 6717-01-P